ENVIRONMENTAL PROTECTION AGENCY

[ER-FRL-6668-5]

Environmental Impacts Statements; Notice of Availability

Responsible Agency: Office of Federal Activities, General Information (202) 564-7167 or http://www.epa.gov/compliance/nepa/.

Weekly receipt of Environmental Impact Statements.

Filed October 10, 2005 through October 14, 2005.

Pursuant to 40 CFR 1506.9.

EIS No. 20050429, Final EIS, BLM, UT, Castle Peak and Eightmile Flat Oil and Gas Expansion Project, Expansion of Crude Oil and Natural Gas Development and Production Programs, Right-of-Way Grant, Duchesne and Uintah Counties, UT, Wait Period Ends: 11/21/2005, Contact: Jean Nitschke-Sinclear 435-781-4437.

EIS No. 20050430, Final EIS, COE, PA, The Town of Bloomsburg, Columbia County, Pennsylvania Flood Damage Reduction Project, Implementation, Integrated Feasibility Report, Susquhanna River and Fishing Creek, Town of Bloomsburg, Columbia County, PA, Wait Period Ends: 11/21/2005, Contact: Jeff Trulick 410-962-6715.

EIS No. 20050431, Final EIS, FHW, NE, South Omaha Veterans Memorial Bridge Improvements, Across the Missouri River for Highway US-275 between the Cities of Omaha, Nebraska and Council Bluffs, Iowa, NPDES and U.S. Army COE Section 404 Permit, NE and IA, Wait Period Ends: 11/21/2005, Contact: Edward Kosola 402-437-5973.

EIS No. 20050432, Draft Supplement, FHW, GA, U.S. 411 Connector, From U.S. 411/GA-20 Interchange with U.S. 41 to U.S. 11 Interchange with I-75, Updated Information, Funding and U.S. Army COE Section 404 Permit, Bartow County, GA, Comment Period Ends: 12/05/2005, Contact: Robert Callan 404-562-3630.

EIS No. 20050433, Draft EIS, FHW, WI, U.S. Highway 12, Improvement from U.S. 12/WI-26 North Fort Atkinson Interchange to Whitewater Bypass, Funding, Rock and Jefferson Counties, WI, Comment Period Ends: 12/14/2005, Contact: Johnny Gerbitz 608-829-7500.

EIS No. 20050434, Final EIS, FHW, AR, Springdale Northern Bypass Project, U.S. Highway 412 Construction, Additional Information, Designation of a Preferred Alternative, Funding and NPDES Permit Issuance, Benton and Washington Counties, AR, Wait Period Ends: 11/23/2005, Contact: Randal Looney 501-324-5625.

EIS No. 20050435, Draft EIS, NOA, 00, Snapper Grouper Fishery, Amendment 13C to the Fishery Management Plan, Phase Out Overfishing of Snowy Grouper, Golden Tilefish, Vermilion Snapper and Sea Bass, Implementation, South Atlantic Region, Comment Period Ends: 12/05/2005, Contact: Dr. Roy E. Crabtree 727-824-5301.

EIS No. 20050436, Draft EIS, NPS, MI, Isle Royale National Park Wilderness and Backcounty Management Plan, Implementation, MI, Comment Period Ends: 12/20/2005, Contact: Phyllis Green 906-482-0986.

EIS No. 20050437, Final EIS, AFS, NM, Tadjik Watershed Restoration Project, Proposes Fuel Reduction and Restore Forest Health, Cabala National Forest, Terrine County, NM, Wait Period Ends: 11/21/2005, Contact: Vicky Astride 505-847-2990.

EIS No. 20050438, Draft EIS, COE, SC, Charleston Naval Complex (CAC), Proposed Construction of a Marine Container Terminal, Cooper River in Charleston Harbor, City of North Charleston, Charleston County, SC, Comment Period Ends: 12/20/2005, Contact: Nathaniel I. Ball 843-329-8044.

Amended Notices

EIS No. 20050342, Draft EIS, NOA, 00, Consolidated Atlantic Highly Migratory Species Fishery Management Plan for Atlantic Tunas, Swordfish, and Shark and the Atlantic Billfish Fishery Management Plan, Implementation, Atlantic Coast, Caribbean and Gulf of Mexico, Comment Period Ends: 03/01/2006, Contact: Karyl Breasted Gauss 301-713-2347, Revision of Notice Published in FR: 08/19/2005, Comment Period Extended from 10/18/2005 to 03/01/2006.

EIS No. 20050369, Final EIS, FHW, MD, MD-32 Planning Study, Transportation Improvements from MD-108 to Interstate 70, Funding, Howard County, MD, Wait Period Ends: 11/11/2005, Contact: Caron Brookman 410-962-4440, Revision to FR Notice Published on 9/9/2005, Comment Period Extended from 10/11/2005 to 11/11/2005.

EIS No. 20050394, Draft EIS, FHW, IA, Council Bluffs Interstate System Improvements Project (Tier 1), Transportation Improvements from the Missouri River on I-80 east of the I-480 Interchange in Omaha, Podium County, IA and Douglas County, NE, Comment Period Ends: 02/28/2006, Contact: Philip Barnes 515-233-7300. This EIS was inadvertently refiled and published in 9/30/2005 FR. The Correct Notice was published in 12/23/2004 FR.

EIS No. 20050417, Final Supplement, COE, MD, Poplar Island Environmental Restoration Project, Habitat Restoration and Dredged Material Capacity, Chesapeake Bay, Talbot County, MD, Wait Period Ends: 11/07/2005, Contact: Mark Mendelsohn 410-962-9499. Revision of Notice Published FR: 10/07/2005. Correction to Contact Telephone Number.

Dated: October 18, 2005.
Ken Mittelholtz,
Environmental Protection Specialist, Office of Federal Activities.

[FR Doc. 05-21100 Filed 10-20-05; 8:45 am]

BILLING CODE 6560-50-P